DEPARTMENT OF COMMERCE

International Trade Administration

C-122-815

Pure Magnesium and Alloy Magnesium from Canada: Final Results of 2004 Countervailing Duty Administrative Reviews and Partial Rescission of Administrative Reviews

AGENCY: Import Administration, International Trade Administration, Department of Commerce.

SUMMARY: On July 13, 2006, the Department of Commerce published in the Federal Register the preliminary results of the administrative reviews of the countervailing duty orders on pure magnesium and alloy magnesium from Canada for the period January 1, 2004, through December 31, 2004. We gave interested parties an opportunity to comment on the preliminary results.

Our analysis of the comments received on the preliminary results did not lead to any changes in the net subsidy rates. Therefore, the final results do not differ from the preliminary results. The final net subsidy rate for the reviewed company are listed below in the section entitled “Final Results of Reviews.”

EFFECTIVE DATE: November 8, 2006.

FOR FURTHER INFORMATION CONTACT: Andrew McAllister or Brandon Farlander, AD/CVD Operations, Office 1, Import Administration, U.S. Department of Commerce, 14th Street and Constitution Avenue, NW, Washington, DC 20230; telephone (202) 482-1174 or (202) 482-0182, respectively.

SUPPLEMENTARY INFORMATION:

Case History

On July 13, 2006, the Department of Commerce (“the Department”) published the preliminary results of these administrative reviews (see Pure Magnesium and Alloy Magnesium From Canada: Preliminary Results of Countervailing Duty Administrative Reviews and Intent to Rescind, 71 FR 39667 (July 13, 2006) (“Preliminary Results”). Norsk Hydro Canada, Inc. (“NHCI”) submitted a case brief on August 14, 2006. In its case brief, NHCI agreed with the Department's Preliminary Results with respect to NHCI. US Magnesium LLC (“the petitioner”) did not file a case or rebuttal brief.

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Partial Rescission

In the Preliminary Results, the Department preliminarily rescinded these reviews with respect to Magnola Metallurgy Inc. (“Magnola”) pursuant to 19 CFR 351.213(d)(3). The Department confirmed using data from U.S. Customs and Border Protection that Magnola did not ship subject merchandise to the United States during the POR. In addition, we did not receive any evidence from the petitioners that Magnola shipped subject merchandise to the United States during the POR. Therefore, pursuant to 19 CFR 351.213(d)(3), we are rescinding these reviews with respect to Magnola.

Period of Reviews

The period for which we are measuring subsidies, or POR, is January 1, 2004, through December 31, 2004.

Changes Since the Preliminary Results

Based on our analysis of the record and comments received, we have made no changes to the preliminary results net subsidy rate.

Final Results of Reviews

In accordance with 19 CFR 351.221(b)(5), we calculated an individual subsidy rate for the producer/exporter subject to these reviews. For the period January 1, 2004, through December 31, 2004, we find the net subsidy rate for NHCI to be 0.51 percent. We are disclosing our calculations to the interested parties in accordance with 19 CFR 351.224(b).

Cash Deposit Instructions

On July 6, 2006, pursuant to section 751(d)(2) of the Act and 19 CFR 351.222(i)(1)(iii), the Department revoked the countervailing duty orders on pure magnesium and alloy magnesium from Canada (see Revocation of the Countervailing Duty Orders: Pure Magnesium and Alloy Magnesium from Canada, 71 FR 38382 (July 6, 2006)). The effective date of the revocations is August 16, 2005. As a result of this action, we are not issuing cash deposit instructions.

However, were the Department to issue cash deposit instructions, the estimated net subsidy for future NHCI imports would be zero because the subsidy benefits were fully extinguished during the POR. Consequently, no cash deposits of estimated countervailing duties would be required on shipments of the subject merchandise from the reviewed entity, entered, or withdrawn from warehouse, for consumption on or after the date of publication of the final results of these reviews.

Assessment Rates

Pursuant to 19 U.S.C. § 1516a(g)(5)(c)(i), the Department will not order the liquidation of entries of pure magnesium or alloy magnesium from Canada exported by NHCI on or after January 1, 2004, through December 31, 2004, pending final disposition of a dispute settlement proceeding under NAFTA (USA-CDA-00-1904-09 (panel)) with respect to Pure and Alloy Magnesium From Canada; Final Results of Full Sunset Review, 65 FR 41436 (July 5, 2000). Liquidation of NHCI entries will occur at the rate described in these final results of reviews, if appropriate, following the final disposition of the previously mentioned NAFTA dispute settlement proceedings.

This notice serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and notice are in accordance with section 751(a)(1) of the Act.

Dated: October 31, 2006.
David M. Spooner,
Assistant Secretary for Import Administration.

[FR Doc. E6-18886 Filed 11-7-06; 8:45 am]

BILLING CODE 3510-DS-S